DEPARTMENT OF HEALTH AND HUMAN SERVICES

Centers for Disease Control and Prevention

[Docket No. CDC-2016-0092]

2018 National Health Interview Survey Questionnaire Redesign

AGENCY: Centers for Disease Control and Prevention (CDC), Department of Health and Human Services (HHS).

ACTION: Notice with comment period.

SUMMARY: The National Center for Health Statistics (NCHS), Centers for Disease Control and Prevention (CDC), in the Department of Health and Human Services (HHS) announces the opening of a docket to obtain public comment on the redesign of the National Health Interview Survey (NHIS) questionnaire (OMB Control No. 0920-0214, expires 01/31/2019) Any proposed changes will be submitted in future notices in compliance with the Paperwork Reduction Act (PRA). The content and structure of the NHIS will be updated in 2018 to improve the measurement of covered health topics, reduce respondent burden by shortening the length of the questionnaire, harmonize overlapping content with other federal health surveys, establish a long-term structure of ongoing and periodic topics, and incorporate advances in survey methodology and measurement.

DATES: Written comments must be received on or before November 7, 2016.

ADDRESSES: You may submit comments, identified by Docket No. CDC-2016-0092 by any of the following methods:

• Federal eRulemaking Portal: http://www.regulations.gov. Follow the instructions for submitting comments.

• Mail: Verita C. Buie, Office of Planning, Budget, and Legislation, National Center for Health Statistics, Centers for Disease Control and Prevention, 3311 Toledo Road, MS-08, Hyattsville, MD 20782.

Instructions: All submissions received must include the agency name and Docket Number. All relevant comments received will be posted without change to http://regulations.gov, including any personal information provided. For access to the docket to read background documents or comments received, go to http://www.regulations.gov.

FOR FURTHER INFORMATION CONTACT: Marcie Cynamon, Director, of the Division of Health Interview Statistics, National Center for Health Statistics, 3311 Toledo Road, MS-P08, Hyattsville, MD 20782-2064, phone: (301) 458-4174.

SUPPLEMENTARY INFORMATION: The National Center for Health Statistics (NCHS) is redesigning the National Health Interview Survey (NHIS) to be fielded in 2018. The NHIS is the principal source of information on the health of the civilian noninstitutionalized population of the United States. Established by the National Health Survey Act of 1956, the survey has been in the field continuously since July 1957. NHIS data are used widely throughout the Department of Health and Human Services (HHS) to monitor trends in illness and disability and to track progress toward achieving national health objectives. The data are used by HHS and the public health research community in determining barriers to accessing and using health care services, and in tracking those health conditions and behaviors related to the leading causes of morbidity and mortality.

The redesigned NHIS questionnaire and survey structure will be introduced in January 2018. The redesign process presents an opportunity to (1) ensure the survey is capturing the current health and health care needs of individuals in the United States and producing data of the highest-possible quality; and (2) reduce respondent burden by shortening the overall questionnaire length and harmonizing its content with other federal health surveys. The redesign is strategically timed to coordinate with the data cycle used to monitor Healthy People 2020 objectives, providing a clean transition into the next decade of monitoring the nation's critical public health indicators. The redesigned questionnaire reflects advances in survey methodology and measurement since the last NHIS redesign in 1997. This proposal incorporates a long-term structure for the content of the survey. There will be content that remains on the survey each year and content that will be collected on a rotating basis (collected for one or two years, off for one year). The periodicity of rotating content will be established several years in advance. Approximately 15 to 20 minutes of interview time each year will be reserved for sponsored content that addresses the data needs of other federal agencies and partners.

The proposed structure of the redesigned NHIS will differ from the current structure. Since 1997, the NHIS has consisted of a family questionnaire, a sample adult questionnaire, and a sample child questionnaire. The new structure will include a sample adult questionnaire and a sample child questionnaire only; however, in the redesigned NHIS, much of the content from the family section will be collected within the sample adult and sample child interviews. To complete these questionnaires, one adult aged 18 years and over and one child aged 17 years and under (if applicable) will be randomly selected from each sampled household. Information about the sample adult will be collected from the sample adult himself/herself unless s/he is physically or mentally unable to do so, in which case a knowledgeable proxy will be allowed to answer for the sample adult. Information about the sample child will be collected from a knowledgeable adult who may or may not also be the sample adult.

Content from the family questionnaire that will still be obtained from respondents in the redesigned NHIS includes questions at the beginning of the interview that will capture the age, sex, active duty military status, race, and ethnicity of everyone who usually lives or stays in the household. Some content from the family questionnaire (e.g., family income, financial burden of medical care, housing tenure) will be moved into the two remaining questionnaires.

Public comment on the first draft of these questionnaires will be critical as we continue to revise and improve the content and question text during the redesign process. The first draft of the questionnaires may be found in the docket under Supporting and Related Materials.

Dated: October 4, 2016.
Sandra Cashman,
Executive Secretary, Centers for Disease Control and Prevention.

[FR Doc. 2016-24348 Filed 10-6-16; 8:45 am]

BILLING CODE 4163-18-P